DEPARTMENT OF THE TREASURY

Customs Service

[T.D. 01-32]

Customs Accreditation of Markan Laboratories as a Commercial Laboratory

AGENCY: U.S. Customs Service, Department of the Treasury.

ACTION: Notice of Accreditation of Markan Laboratories of New York, New York, as a Commercial Laboratory.

SUMMARY: Markan Laboratories of New York, New York has applied to U.S. Customs under Part 151.12 of the Customs Regulations for accreditation as a commercial laboratory to analyze sugar, sugar syrups and confectionery products under Chapter 17 of the Harmonized Tariff Schedule of the United States (HTSUS). Customs has determined that this company meets all of the requirements for accreditation as a commercial laboratory. Specifically, Markan Laboratories has been granted accreditation to perform the following tests methods only: (1) Polarization of Raw Sugar, ICUMSA GS 1/2/3-1; (2) Polarization of White Sugar, ICUMSA GS 2/3-1; (3) Sugar Moisture by Loss on Drying, ICUMSA GS 2/1/3-15; (4) The Determination of the Polarization of Raw Sugar Without Wet Lead Clarification, ICUMSA GS 1/2/3-2. Therefore, in accordance with Part 151.12 of the Customs Regulations, Markan Laboratories of New York, New York is hereby accredited to analyze the products named above.

Location: Markan Laboratories accredited site is located at: 5 Hanover Square, 12th Floor, New York, New York, 10004-2614.

EFFECTIVE DATE: April 12, 2001.

FOR FURTHER INFORMATION CONTACT: Michael Parker, National Quality Manager, Laboratories and Scientific Services, U.S. Customs Service, 1300 Pennsylvania Avenue, NW., Suite 1500 North, Washington, DC 20229.

Dated: April 18, 2001.
Ira S. Reese,
Executive Director, Laboratories and Scientific Services.

[FR Doc. 01-9941 Filed 4-20-01; 8:45 am]

BILLING CODE 4820-02-P